DEPARTMENT OF THE TREASURY

Fiscal Service

Surety Companies Acceptable on Federal Bonds: Change in State of Incorporation—Planet Indemnity Company

AGENCY: Financial Management Service, Fiscal Service, Department of the Treasury.

ACTION: Notice.

SUMMARY: This is Supplement No. 18 to the Treasury Department Circular 570; 1999 Revision, published July 1, 1999, at 64 FR 35864.

FOR FURTHER INFORMATION CONTACT: Surety Bond Branch at (202) 874-6905.

SUPPLEMENTARY INFORMATION: Planet Indemnity Company has redomesticated from the state of Colorado to the state of Illinois effective September 20, 1999. The Company was last listed as an acceptable surety on Federal bonds at 64 FR 35886, July 1, 1999.

Federal bond-approving officers should annotate their reference copies of the Treasury Circular 570, 1999 revision, on page 35886 to reflect this change.

The Circular may be viewed and downloaded through the Internet at http://www.fms.treas.gov/c570/index.html or a hard copy may be purchased from the Government Printing Office (GPO), Subscription Service, Washington, DC, telephone (202) 512-1800.

When ordering the Circular from GPO, use the following stock number: 048000-00527-6.

Questions concerning this notice may be directed to the U.S. Department of the Treasury, Financial Management Service, Financial Accounting and Services Division, Surety Bond Branch, 3700 East-West Highway, Room 6A04, Hyattsville, MD 20782, telephone (202) 874-6905.

Dated: March 27, 2000.
Wanda J. Rogers,
Director, Financial Accounting and Services Division, Financial Management Service.

[FR Doc. 00-8191 Filed 4-3-00; 8:45 am]

BILLING CODE 4810-35-M